DEPARTMENT OF DEFENSE

Department of the Navy

Notice of Intent To Grant Exclusive Patent License: SciTech Medical Inc.

AGENCY: Department of the Navy, DoD.

ACTION: Notice.

SUMMARY: The Department of the Navy hereby gives notice of its intent to grant a partially exclusive license to SciTech Medical Inc. The proposed license is a revocable, nonassignable, partially exclusive license to practice several inventions throughout the United States, the District of Columbia, the Commonwealth of Puerto Rico, and all other United States territories and possessions and throughout the world as covered by all related filings. The Secretary of the Navy has an ownership interest in these inventions, and they are covered by U.S. Patent No. 7,128,714: Non-Contact Waveform Monitor; U.S. Patent App. Ser. No. 12/131,472: Remote Blood Pressure Sensing Method and Apparatus; and, U.S. Provisional Patent App. Ser. No. 61/255,258: Non-Contact System and Method For Monitoring A Physiological Condition and various related foreign applications.

DATES: Anyone wishing to object to the grant of this license has fifteen (15) days from the date of this notice to file written objections along with supporting evidence, if any.

ADDRESSES: Written objections are to be filed with the Naval Undersea Warfare Center Division, Newport, 1176 Howell St., Bldg 990, Code 07TP, Newport, RI 02841.

FOR FURTHER INFORMATION CONTACT: Dr. Theresa A. Baus, Head, Technology Partnership Enterprise Office, Naval Undersea Warfare Center Division, Newport, 1176 Howell St., Bldg 990, Code 07TP, Newport, RI 02841, telephone 401-832-8728, or e-mail Theresa.baus@navy.mil.

Authority: 35 U.S.C. 207, 37 CFR part 404.

Dated: April 7, 2010.
A.M. Vallandingham,
Lieutenant Commander, Judge Advocate General's Corps, U.S. Navy, Federal Register Liaison Officer.

[FR Doc. 2010-8657 Filed 4-14-10; 8:45 am]

BILLING CODE 3810-FF-P